DEPARTMENT OF COMMERCE

National Oceanic and Atmospheric Administration

Proposed Information Collection; Comment Request; Puget Sound Recreational Shellfish Harvesting Project

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 17, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Mark Plummer, (206) 860-3492 or Mark.Plummer@noaa.gov.

SUPPLEMENTARY INFORMATION:

I. Abstract

This request is for a new collection of information.

The Puget Sound estuary provides one of the most valuable shellfish habitats in the Pacific Northwest. Shellfish are important economically, ecologically, and socially to the Puget Sound basin. While shellfish bed closures have decreased area-wide, persistent closures continue in certain locations, affecting local growers and restricting commercial and recreational harvest opportunities. The Puget Sound Partnership (Partnership), a Washington State agency established to facilitate the conservation and restoration of Puget Sound, has set a priority to reduce the risks of shellfish growing area closures and adverse effects on human health. The Partnership's Action Agenda, the blueprint for action to restore and protect Puget Sound, has set a goal for a net increase of 10,800 harvestable shellfish acres by 2020.

In support of the Partnership's pursuit of this goal, the Northwest Fisheries Science Center is undertaking an economics research project to assess the behavior of individual shellfish harvesters in response to the opening and closing of individual shellfish beaches for human health reasons, and how these actions affect the value of shellfish harvesting. The Puget Sound Recreational Shellfish Harvesting Project (PSRSHP) will provide critical economic data related to recreational shellfish harvesting. More specifically, the PSRSHP will collect data needed to assess (1) The socioeconomic characteristics of recreational shellfish harvesting participants; (2) The economic value of access to Puget Sound beaches for recreational shellfish harvesting through statistical estimation of models; and (3) the potential changes in these values stemming from possible changes in management policies related to human health that affect the status of particular shellfish harvesting areas.

II. Method of Collection

A sample of shellfish and fishing license holders will be screened with a brief telephone survey, followed by a mail survey where appropriate. Respondents to the telephone survey will submit data by telephone, and respondents to the mail survey will submit data on paper.

III. Data

OMB Control Number: None.

Form Number: None.

Type of Review: Regular submission (new information collection).

Affected Public: Individuals or households.

Estimated Number of Respondents: 1,463.

Estimated Time per Response: 30 minutes for mail respondents who harvested shellfish in Puget Sound; 10 minutes for all other mail respondents; 3 minutes telephone screener.

Estimated Total Annual Burden Hours: 214.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 13, 2012.
Gwellnar Banks,
Management Analyst, Office of the Chief Information Officer.

[FR Doc. 2012-14802 Filed 6-15-12; 8:45 am]

BILLING CODE 3510-22-P